FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 000086-019.

Title: New York Shipping Association, Inc. and International Longshoremen's Association, AFL-CIO Assessment Agreement

Parties: New York Shipping Association, Inc. International Longshoremen's Association.

Synopsis: The agreement amendment amends pension base calculations and provides for the extension of the agreement through September 30, 2004.

Agreement No.: 010806-005.

Title: Portland SSA Terminal 2 Marine Terminal Agreement.

Parties: The Port of Portland, Stevedoring Services of America, Inc.

Synopsis: The agreement amendment sets a management fee and a minimum annual guarantee and extends the agreement through September 30, 2005.

Agreement No.: 011699-001.

Title: CMA CGM/Wan Hai Lines Ltd. Cooperation Agreement.

Parties: CMA CGM, S.A., Wan Hai Lines Ltd.

Synopsis: Under the proposed modification, some of the space CMA CGM provides Wan Hai lines in the transpacific trades will now come from the space that CMA CGM receives from Maersk Sealand under the Maersk Sealand/CMA CGM Pacific Slot Charter Agreement, FMC Agreement No. 011724. The parties request expedited review.

Agreement No.: 200063-020.

Title: New York Shipping Association, Inc. and International Longshoremen's Association, AFL-CIO Assessment Agreement.

Parties: New York Shipping Association, Inc., International Longshoremen's Association.

Synopsis: The agreement amendment amends pension base calculations and provides for the extension of the agreement through September 30, 2004.

Dated: October 13, 2000.
By Order of the Federal Maritime Commission.
Bryant L. VanBrakle,
Secretary.

[FR Doc. 00-26778 Filed 10-17-00; 8:45 am]

BILLING CODE 6730-01-P